FEDERAL COMMUNICATIONS COMMISSION

47 CFR Part 73

[DA 06-2564; MB Docket No. 03-13; RM-10628]

Radio Broadcasting Services; Johnston City and Marion, IL

AGENCY: Federal Communications Commission.

ACTION: Final rule; dismissal of application for review.

SUMMARY: In response to a request for dismissal of the Application for Review of the Report and Order, in this proceeding, the Application for Review is dismissed.

FOR FURTHER INFORMATION CONTACT: R. Barthen Gorman, Media Bureau, (202) 418-2180.

SUPPLEMENTARY INFORMATION: This is a synopsis of the Commission's Memorandum Opinion and Order, MB Docket No. 03-13, adopted December 20, 2006, and released December 22, 2006. The full text of this Commission decision is available for inspection and copying during normal business hours in the FCC's Reference Information Center at Portals II, CY-A257, 445 12th Street, SW., Washington, DC. This document may also be purchased from the Commission's duplicating contractors, Qualex International, Portals II, 445 12th Street, SW., Room CY-B402, Washington, DC 20554, telephone 202-863-2893, facsimile 202-863-2898, or via e-mail qualexint@aol.com.

List of Subjects in 47 CFR Part 73

Radio, Radio broadcasting.

Federal Communications Commission.
John A. Karousos,
Assistant Chief, Audio Division, Media Bureau.

[FR Doc. E7-184 Filed 1-9-07; 8:45 am]

BILLING CODE 6712-01-P